DEPARTMENT OF HEALTH AND HUMAN SERVICES

National Institutes of Health

National Institute on Drug Abuse; Amended Notice of Meeting

Notice is hereby given of a change in the meeting of the Board of Scientific Counselors, NIDA, October 22, 2013, 08:00 a.m. to October 22, 2013, 06:00 p.m., Intramural Research Program, National Institute on Drug Abuse, NIH, Johns Hopkins Bayview Campus, Baltimore, MD, 21223 which was published in the Federal Register on September 10, 2013, 78, 175 FR2013-21947.

The date of the meeting is changed to December 19, 2013. The meeting is closed to the public.

Dated: November 1, 2013.
Michelle Trout,
Program Analyst, Office of Federal Advisory Committee Policy.

[FR Doc. 2013-26622 Filed 11-6-13; 8:45 am]

BILLING CODE 4140-01-P